DEPARTMENT OF COMMERCE

Bureau of Industry and Security

Agency Information Collection Activities; Submission to the Office of Management and Budget (OMB) for Review and Approval; Comment Request; BIS Program Evaluation

AGENCY: Bureau of Industry and Security, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 19, 2025.

ADDRESSES: Interested persons are invited to submit comments by email to Nancy Kook, IC Liaison, Bureau of Industry and Security, at PRA@bis.doc.gov or to PRAcomments@doc.gov). Please reference OMB Control Number 0694-0125 in the subject line of your comments. Do not submit Confidential Business Information or otherwise sensitive or protected information.

FOR FURTHER INFORMATION CONTACT: Requests for additional information or specific questions related to collection activities should be directed to Nancy Kook, IC Liaison, Bureau of Industry and Security, phone 202-482-2440 or by email at PRA@bis.doc.gov.

SUPPLEMENTARY INFORMATION:

I. Abstract

The Bureau of Industry and Security (BIS) conducts seminars on various aspects of the export controls under BIS' jurisdiction. Feedback from these seminars is vital to ensuring the quality and relevance of outreach programs. Participants' completion of a voluntary survey provides BIS with immediate feedback on various program elements allowing BIS to improve and adjust its course offerings to meet the needs of the exporting community. BIS typically conducts over 20 seminars each year, both virtually and in-person, at locations across the United States and overseas.

II. Method of Collection

Electronically or on paper.

III. Data

OMB Control Number: 0694-0125.

Form Number(s): BIS 0694-0125.

Type of Review: Regular submission; Extension of a currently approved collection

Affected Public: Business or other for-profit organizations.

Estimated Number of Respondents: 3,030.

Estimated Time per Response: 10 minutes.

Estimated Total Annual Burden Hours: 505 hours.

Estimated Total Annual Cost to Public: 0.

Respondent's Obligation: Voluntary.

Legal Authority: Government Performance and Results Act (GPRA).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-11342 Filed 6-18-25; 8:45 am]

BILLING CODE 3510-33-P